DEPARTMENT OF ENERGY

Federal Energy Regulatory Commission

[Docket Nos. RP01-602-000]

Dominion Transmission, Inc.; Notice of Conversion to Part 284 Service and Non-Conforming Service Agreements

September 19, 2001.

Take notice that on September 14, 2001, Dominion Transmission, Inc. (DTI) filed pursuant to Sections 4 and 7 of the Natural Gas Act and the Commission's regulations to convert individually certificated transportation and storage services it provides to Doswell Limited Partnership and Virginia Power Services Energy Corporation, Inc. to open access services under Part 284 of the Commission regulations. DTI requests the Commission's permission and approval to abandon the individually certificated services and provide Part 284 service. Because the converted service agreements under Rate Schedules FTNN and GSS differ in some material aspects as DTI's pro forma agreements, DTI submitted copies of the service agreements. DTI requests that the Commission find that the deviations from the pro forma agreements are not unjust, unreasonable or unduly discriminatory, and asks the Commission to approve the filed service agreements.

As part of its filing, DTI tendered pro forma Fifth Revised Sheet No. 1300 of the Third Revised Volume No. 1 of DTI's tariff, which lists non-conforming agreements. DTI explains that the effective date of the conversions to Part 284 service, and of the tariff sheet, cannot be known at this time because of a series of conditions precedent provided in the agreements. DTI states that it will submit an actual tariff sheet with the effective date in a filing in compliance with a Commission order approving its filing. DTI requests that the Commission act on its filing within sixty days.

DTI states that copies of this filing have been mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 26, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23833 Filed 9-24-01; 8:45 am]

BILLING CODE 6717-01-M